DEPARTMENT OF TRANSPORTATION

Federal Highway Administration

Environmental Impact Statement; Stearns County, MN

AGENCY: Federal Highway Administration (FHWA), DOT.

ACTION: Notice of Intent.

SUMMARY: The FHWA is issuing this notice to advise the public that an environmental impact statement (EIS) will be prepared for the construction of a new roadway located between County State Aid Highway (CSAH) 4/CSAH 133 in St. Joseph and Trunk Highway (TH) 15 in Waite Park, a distance of approximately 7 miles, in the St. Cloud Metropolitan Area, Stearns County, Minnesota.

FOR FURTHER INFORMATION CONTACT: Cheryl Martin, Federal Highway Administration, Galtier Plaza, Suite 500, 380 Jackson Street, St. Paul, Minnesota 55101, Telephone (651) 291-6120; or Mitchell Anderson, P.E., Stearns County Engineer, Stearns County Department of Highways, P.O. Box 246, St. Cloud, Minnesota 56302, Telephone (320) 255-6180.

SUPPLEMENTARY INFORMATION: The FHWA, in cooperation with Stearns County Department of Highways, will prepare an EIS to identify a new safe and efficient minor arterial transportation corridor within the greater southwest St. Cloud Metropolitan Area that can be preserved for future use in an area of planned growth. The proposed roadway is located between CSAH 4/CSAH 133 in St. Joseph to TH 15 in Waite Park, a distance of approximately 7 miles, in Stearns County, Minnesota. The purpose of the proposed project is to enhance mobility, enhance connectivity to regional corridors, and support the economic and social needs for the growing southwest St. Cloud Metropolitan Area by providing infrastructure support and accessibility to the planned growth areas of the communities of St. Joseph and Waite Park.

The EIS will evaluate the social, economic, transportation and environmental impacts of alternatives, including: (1) No-Build and (2) “Build” alternatives with variations in the location of the alignment.

The “St. Cloud Metro Area Southwest Beltway Scoping Document/Draft Scoping Decision Document” will be published in early spring of 2008. A press release will be published to inform the public of the document's availability. Copies of the scoping document will be distributed to agencies, interested persons and libraries for review to aid in identifying issues and analyses to be contained in the EIS. A thirty-day comment period for review of the document will be provided to afford an opportunity for all interested persons, agencies and groups to comment on the proposed action. A public scoping meeting will also be held during the comment period. Public notice will be given for the time and place of the meeting. After the scoping comment period has closed, the “St. Cloud Metro Southwest Beltway Scoping Decision Document” will be published in 2008. A Draft EIS will be prepared based on the outcome of and closely following the scoping process. The Draft EIS will be available for agency and public review and comment. In addition, a public hearing will be held following completion of the Draft EIS. Public Notice will be given for the time and place of the public hearing on the Draft EIS. Coordination has been initiated and will continue with appropriate Federal, State and local agencies and private organizations and citizens who have previously expressed or are known to have an interest in the proposed action. “Participating agencies” have been identified and a meeting will be held in February or March 2008 to discuss the project and receive input on the “purpose and need” for the project and range of alternatives to be studied in the Draft EIS. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Dated: Issued on: December 28, 2007.
Cheryl B. Martin,
Environmental Engineer, Federal Highway Administration, St. Paul, Minnesota.

[FR Doc. 07-6302 Filed 1-4-08; 8:45 am]

BILLING CODE 4910-22-M